DEPARTMENT OF JUSTICE

[OMB Number 1117-0031]

Agency Information Collection Activities; Proposed eCollection eComments Requested; Extension Without Change of a Previously Approved Collection; Title Application for Registration Under Domestic Chemical Diversion Control Act of 1993 (DEA Form 510); Renewal Application for Registration Under Domestic Chemical Diversion Control Act of 1993 (DEA Form 510a)

AGENCY: Drug Enforcement Administration, Department of Justice.

ACTION: 30-Day notice.

SUMMARY: The Department of Justice (DOJ), Drug Enforcement Administration (DEA), will be submitting the following information collection request to the Office of Management and Budget (OMB) for review and approval in accordance with the Paperwork Reduction Act of 1995.

DATES: Comments are encouraged and will be accepted for 30 days until October 10, 2025.

FOR FURTHER INFORMATION CONTACT: This proposed information collection was previously published in the Federal Register on July 7, 2025, at 90 FR 29886, allowing for a 60-day comment period. No comments were received. If you have comments especially on the estimated public burden or associated response time, suggestions, or need a copy of the proposed information collection instrument with instructions or additional information, please contact Heather E. Achbach, Regulatory Drafting and Policy Support Section, Drug Enforcement Administration; Mailing Address: 8701 Morrissette Drive, Springfield, Virginia 22152; Telephone: (571) 776-3882; Email: DEA.PRA@dea.gov or Heather.E.Achbach@dea.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1117-0031. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension without change of a currently Approved Collection.

2. Title of the Form/Collection: Application for Registration under Domestic Chemical Diversion Control Act of 1993; Renewal Application for Registration under Domestic Chemical Diversion Control Act of 1993.

3. Agency form number, if any, and the applicable component of the Department of Justice sponsoring the collection: DEA Form 510 and DEA Form 510a. The applicable component within the Department of Justice is the Drug Enforcement Administration, Diversion Control Division.

4. Affected public who will be asked or required to respond, as well as a brief abstract:

Affected public (Primary): Business or other for-profit.

Affected public (Other): Not-for-profit institutions; Federal, State, Local, and tribal governments.

Abstract: The DEA implements the Controlled Substances Act (CSA) which requires that every person who manufactures or distributes a list I chemical shall annually obtain a registration for that purpose. The DEA will be revising the proposed information collection instruments concerning the liability questions on the Application for Registration under Domestic Chemical Diversion Control Act of 1993; and Renewal Application for Registration under Domestic Chemical Diversion Control Act of 1993. Over the years, many applicants have answered some of the liability questions incorrectly. These changes will avoid confusion to the applicant by separating compound questions into multiple parts that will require the applicant to answer them individually.

5. Obligation to Respond: Required to Obtain or Retain Benefits.

6. Total Estimated Number of Respondents: DEA estimates that 764 registrants participate in this information collection.

7. Estimated Time per Respondent: This collection is estimated to take 764 mins per registrant.

8. Frequency: once per year.

9. Total Estimated Annual Time Burden: DEA estimates that this collection takes 156 annual burden hours.

10. Total Estimated Annual Other Costs Burden: $0.

Total Burden Hours
Activity | Number of respondents | Frequency | Total annual responses | Time per response (hours) | Total annual burden (hours)
DEA 510 | 161 | 1 | 161 | 0.33 (20 minutes) | 53
DEA 510a
| 603 | 1 | 603 | 0.17 (10 minutes) | 103
Unduplicated Total | 764 | 1 | 764 | 0.204 | 156

If additional information is required, contact: Darwin Arceo, Department Clearance Officer, Policy and Planning Staff, Justice Management Division, United States Department of Justice, Two Constitution Square, 145 N Street NE, 4W-218 Washington, DC 20530.

Dated: September 8, 2025.
Darwin Arceo,
Department Clearance Officer for PRA, U.S. Department of Justice.

[FR Doc. 2025-17422 Filed 9-9-25; 8:45 am]

BILLING CODE 4410-09-P